DEPARTMENT OF ENERGY

Federal Energy Regulatory Commission

[Docket No. CP08-67-000]

Tennessee Gas Pipeline Company; Notice of Request Under Blanket Authorization

February 6, 2008.

Take notice that on February 1, 2008, Tennessee Gas Pipeline Company (Tennessee), 1001 Louisiana, Houston, Texas 77002, filed in Docket No. CP08-67-000, a prior notice request pursuant to sections 157.205 and 157.212 of the Federal Energy Regulatory Commission's regulations under the Natural Gas Act for authorization to construct, own, and operate an interconnection with Golden Pass Pipeline LLC (Golden Pass), located in Calcasieu Parish, Louisiana, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (886) 208-3676 or TYY, (202) 502-8659.

Specifically, Tennessee proposes to establish a new interconnection with Golden Pass on Tennessee's pipeline designated as Line 800-1 at an existing side valve in Calcasieu Parish, Louisiana. Tennessee proposes to install a twenty-four inch flanged tee, as well as appurtenances constructed pursuant to section 2.55(a), including a ball valve, check valve, electronic gas measurement, chromatograph with sensing elements, communications for SCADA, and an 8 x 10 building. Tennessee estimates the cost of the interconnection facilities to be $387,000, for which Tennessee will be fully reimbursed by Golden Pass. Tennessee states that the interconnection will allow Golden Pass to deliver and Tennessee to receive up to 600 MMcf/day.

Any questions regarding the application should be directed to Jay V. Allen, Senior Counsel, Tennessee Gas Pipeline Company, 1001 Louisiana, Houston, Texas 77002, call (713) 420-5589 or fax (713) 420-1601, or Debbie Kalisek, Analyst, Certificates & Regulatory Compliance, call (713) 420-3292 or fax (713) 420-1605.

Any person or the Commission's Staff may, within 60 days after the issuance of the instant notice by the Commission, file pursuant to Rule 214 of the Commission's Procedural Rules (18 CFR 385.214) a motion to intervene or notice of intervention and, pursuant to section 157.205 of the Commission's Regulations under the Natural Gas Act (NGA) (18 CFR 157.205) a protest to the request. If no protest is filed within the time allowed therefor, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E8-2529 Filed 2-11-08; 8:45 am]

BILLING CODE 6717-01-P